FEDERAL MARITIME COMMISSION

Notice of Agreements Filed

The Commission hereby gives notice of the filing of the following agreements under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011383-038.

Title: Venezuelan Discussion Agreement.

Parties: A.P. Moller-Maersk A/S, Hamburg-Süd KG, Seaboard Marine Ltd., King Ocean Service de Venezuela, and Seafreight Line.

Synopsis: The amendment updates Maersk's corporate name and deletes Hamburg-Süd's trade names.

Agreement No.: 011421-031.

Title: East Coast of South America Discussion Agreement.

Parties: Alianca Navegacao e Logistica Ltda.; A.P. Moller-Maersk A/S; Compania Sud Americana de Vapores, S.A.; Hamburg-Süd KG; APL Co. Pte Ltd.; Lykes Lines Limited, LLC; Mediterranean Shipping Company, S.A.; Evergreen Marine Corporation (Taiwan) Limited; Companhia Libra de Navegacao; Montemar Maritima, S.A.; CMA CGM, S.A.; P&O Nedlloyd B.V.; P&O Nedlloyd Limited; and Safmarine Container Lines, N.V.

Synopsis: The amendment updates Maersk's corporate name and deletes Hamburg-Süd's trade names.

Agreement No.: 011426-033.

Title: West Coast of South America Discussion Agreement.

Parties: A.P. Moller-Maersk A/S; Compania Chilena de Navigacion Interoceanica, S.A.; Compania Sud Americana de Vapores, S.A.; Hamburg-Süd KG; APL Co. Pte Ltd.; Seaboard Marine Ltd.; Trinity Shipping Line; Mediterranean Shipping Company, S.A.; P&O Nedlloyd B.V.; South Pacific Shipping Company, Ltd. (d/b/a Ecuadorian Line); and CMA CGM, S.A.

Synopsis: The amendment updates Maersk's corporate name and deletes Hamburg-Süd's trade names.

Agreement No.: 011550-009.

Title: ABC Discussion Agreement.

Parties: A.P. Moller-Maersk A/S, Hamburg-Süd KG, King Ocean Services Limited, and Seafreight Line.

Synopsis: The amendment updates Maersk's corporate name and deletes Hamburg-Süd's trade name.

Agreement No.: 011814-002.

Title: CAT/King Ocean Space Charter Agreement.

Parties: A.P. Moller-Maersk A/S; Hamburg-Süd KG; King Ocean Services Limited; and King Ocean Service de Venezuela, S.A.

Synopsis: The amendment updates Maersk's corporate name, deletes Hamburg-Süd's trade name, and changes internal references accordingly. It also corrects the address of King Ocean, changes the name of the agreement, and restates the agreement.

Agreement No.: 201151.

Title: New Orleans/UMS France Road Terminal Lease Agreement.

Parties: Board of Commissioners of the Port of New Orleans Universal Maritime Service Corporation.

Synopsis: The agreement provides for the lease of certain facilities at the France Road Terminal and remains in effect through September 30, 2008.

By Order of the Federal Maritime Commission.
Dated: December 24, 2003.
Bryant L. VanBrakle,
Secretary.

[FR Doc. 03-32188 Filed 12-30-03; 8:45 am]

BILLING CODE 6730-01-P